DELAWARE RIVER BASIN COMMISSION

Notice of Commission Meeting and Public Hearing

Notice is hereby given that the Delaware River Basin Commission will hold an informal conference followed by a public hearing on Wednesday, May 11, 2011. The hearing will be part of the Commission's regular business meeting. The conference session and business meeting both are open to the public and will be held at the West Trenton Volunteer Fire Company, located at 40 West Upper Ferry Road, West Trenton, New Jersey.

The conference among the commissioners and staff will begin at 11 a.m. and will consist of two presentations: a report by Deputy Delaware River Master Gary N. Paulachok, P.G. of the U.S. Geological Survey on a one-year extension of the Flexible Flow Management Plan (FFMP); and a report by Dr. Jonathan H. Sharp of the University of Delaware on the Delaware Estuary Boat Run Monitoring Program.

The subjects of the public hearing to be held during the 1:30 p.m. business meeting include the dockets listed below:

1. U.S. Steel, D-1978-068-3. An application to renew DRBC approval for the discharge of up to 0.163 million gallons per day (mgd) of treated sanitary wastewater from the applicant's wastewater treatment plant (WWTP) via Outfall No. 203 and 3.75 mgd of treated industrial wastewater and non-contact cooling water (NCCW) from the applicant's industrial wastewater treatment plant (IWTP) via Outfall No. 103 as well as to continue a TDS Determination that allows TDS effluent concentrations of up to 1,100 mg/l as a monthly average; 2,200 mg/l as a daily maximum; and 2,750 mg/l as an instantaneous maximum, via combined Outfall No. 003. Internal Outfalls Nos. 103, 203, and 303 (stormwater only) will continue to discharge to the Delaware River via combined Outfall No. 003. The combined discharge from the applicant's WWTP and IWTP is made via Outfall No. 003 to the tidal region of Water Quality Zone 2 of the Delaware River at River Mile 127.0. The WWTP and IWTP are located in Falls Township, Bucks County, Pennsylvania.

2. French Creek State Park, D-1980-007 CP-4. An application to renew DRBC approval to continue to withdraw up to 3.1 million gallons per month (mgm) of groundwater to supply the French Creek State Park from existing Wells in the Hammer Creek Formation. The project is located in the French Creek Watershed in Union Township, Berks County, Pennsylvania, within the Southeastern Pennsylvania Ground Water Protected Area.

3. GenOn Energy, Inc., D-1987-26-3. An application to renew DRBC approval of discharges of treated industrial wastewater effluent from the Titus Generating Station (TGS) to the Schuylkill River as follows: the TGS IWTP via Outfall 002; coal-ash leachate from the Beagle Club Ash Disposal (BCAD) site via Outfall 004; and combined NCCW, intake screen backwash, and stormwater via Outfall 001. The applicant has requested that the intermittent discharge from Outfall 004 continue to have an effluent limit of 3,500 mg/l of TDS as a monthly average. Effluent limits for the existing NCCW discharge (Outfall 001), IWTP (Outfall 002) and BCAD site (Outfall 004) will continue to be based on average annual flows of 1.469 mgd, 2.149 mgd and 1.007 mgd, respectively. The IWTP is hydraulically designed for 3.2 mgd. The TGS facilities will continue to discharge to the Schuylkill River. The project is located in Cumru Township, Berks County, Pennsylvania.

4. Middletown Township, Middletown Country Club, D-1996-032 CP-2. An application for approval of an existing groundwater withdrawalproject to continue to supply up to 4.13 mgm of water to the applicant's golf course from existing Well No. 1-G. The project is located in the Precambrian Felsic Gneiss in the Neshaminy Creek Watershed in Middletown Township, Bucks County, Pennsylvania within the Southeastern Pennsylvania Ground Water Protected Area.

5. Concord Township Sewer Authority, D-1997-019 CP-3. An application for approval to continue discharging 1.8 mgd of treated effluent from the Concord Township WWTP. The WWTP will continue to discharge to the West Branch Chester Creek at River Mile 82.93—8.9—5.4 (Delaware River—Chester Creek—West Branch Chester Creek) in Concord Township, Delaware County, Pennsylvania.

6. Bedminster Municipal Authority—Pennland Farms, D-2006-010 CP-2. An application to renew DRBC approval of the existing 0.06 mgd Pennland Farms WWTP. The WWTP discharges to an unnamed tributary of Deep Run Creek at River Mile 157.0—4.7—7.1—0.1 (Delaware River—Tohickon Creek—Deep Run Creek—UNT). It is located in Bedminster Township, Bucks County, Pennsylvania within the drainage area of the section of the non-tidal Delaware River known as the Lower Delaware, which is classified as Special Protection Waters.

7. Exelon Generation Company, LLC—Schuylkill Generating Station, D-1964-074 CP-2. An application for a decrease in the approved surface water withdrawal (SWWD) allocation associated with Intake No. 1 to 5,180 mgm, of which 2,483 mgm would be for use at the Schuylkill Generating Station (SGS). Intake No. 1 supplies water to the Grays Ferry Cogen Facility (GFCF) and the Tri-Gen Corporation Facility (Tri-Gen) as well as to the SGS. The three facilities are located adjacent to one another on a Schuylkill River site formerly owned and operated by the Philadelphia Energy Company (PECO). The GFCF and Tri-Gen generating stations and subsidiary water allocations were approved on June 28, 1995 by Dockets Nos. D-95-32 and D-95-10, respectively. DRBC staff evaluated the current and 10-year projected uses for all three facilities. The current average and maximum SWWDs are 2,982 mgm and 4,473 mgm, respectively. The 10-year combined maximum SWWD is estimated to be 5,180 mgm, less than the 8,277 mgm formerly approved by DRBC in the facilities' three separate dockets. The SGS is located in the City of Philadelphia, Pennsylvania.

8. E.I. du Pont de Nemours and Company (DuPont), D-1988-085-3. An application to renew DRBC approval of discharges from the DuPont Chambers Works IWTP and to approve modifications to the IWTP, including the construction of a new 48” diameter IWTP outfall pipe with a multi-port diffuser and additional modifications to accommodate the new outfall. The proposed outfall will be located approximately 400 feet south of the existing outfall. By supplemental submission filed on July 22, 2010, the docket holder also seeks approval for an alternative mixing zone in accordance with section 4.20.5.A.1.f of the Water Quality Regulations. The IWTP outfall will continue to discharge treated effluent from the IWTP, non-contact cooling water, and stormwater to the Delaware River Estuary in Water Quality Zone 5. The project IWTP is located in Pennsville and Carneys Point Townships, Salem County, New Jersey.

9. Sunnybrook Golf Club, D-1997-007-2. An application to approve an existing GWD project of up to 4.6 mgm for irrigation of the applicant's golf course from existing Wells Nos. 1 and 2. The previous Commission approval expired before a renewal application was received. The project is located in the Ledger Dolomite in the Wissahickon Creek Watershed in Whitemarsh Township, Montgomery County, Pennsylvania, within the Southeastern Pennsylvania Ground Water Protected Area.

10. Portland Borough Authority, D-1997-029 CP-4. Application for approval of a GWD project to increase the existing allocation from all system wells from 5.7 million gallons per 30 days (mg/30 days) to 12.4 mgm. The increased allocation is requested in order to meet projected increases in service area demand. Docket No. D-1997-029 CP-3 approved the current groundwater allocation of up to 4.32 mgm of water from new Well No. 4 to serve the applicant's public water supply system. The project well is completed in the Martinsburg Formation and is located in the Slateford Creek Watershed in Upper Mount Bethel Township, Northampton County, Pennsylvania. The site is located within the drainage area of the section of the non-tidal Delaware River known as the Lower Delaware, which is classified as Special Protection Waters.

11. Johnson Matthey, Inc., D-1999-038-3. An application for approval of the existing IWTP. The IWTP will continue to treat 0.08 mgd of industrial wastewater generated by its pharmaceutical manufacturing facility. The previous DRBC approval—Docket No. D-1999-038-2 issued on May 10, 2007—expired on April 30, 2010. The IWTP will continue to discharge to the Schuylkill River via the Matsunk Creek culvert. The project is located in Upper Merion Township, Montgomery County, Pennsylvania.

12. Reading Area Water Authority (RAWA), D-2000-59 CP-2. An application for approval of the bulk sale interconnection and transfer up to 1.5 mgd of potable water from the RAWA system to the Pennsylvania American Water Company (PAWC) Glen Alsace District water distribution system. Some of the water supply is also needed to serve PAWC's customers in its Douglassville District via an existing interconnection. The application also includes the revision of the RAWA Operating Plan to reflect conservation release modifications from the Lake Ontelaunee Reservoir. The reservoir is located in Ontelaunee Township, Berks County, Pennsylvania and is situated on Maiden Creek in the Schuylkill River Watershed.

13. Buckingham Township, D-2004-015 CP-2. An application for approval of the existing Buckingham Village WWTP and Furlong Sewage Treatment Lagoon System (Furlong WWTP). The previous DRBC approval—Docket No. D-2004-015 CP-1 issued October 27, 2004—expired on October 27, 2009. The Buckingham Village WWTP will continue to discharge up to 0.236 mgd of treated sewage effluent to Mill Creek, a tributary of the Neshaminy Creek; however, from April 1 to November 30, the Buckingham Village WWTP will divert the treated sewage effluent for spray irrigation to spray fields associated with the Furlong WWTP. The Furlong WWTP is designed to treat a flow of up to 302,268 gpd and currently permitted by PADEP to treat up to 257,000 gpd. The facility is located in Buckingham Township, Bucks County, Pennsylvania.

14. Lafarge North America, D-1974-189-2. An application for approval of a GWD and SWWD project to supply up to 70.68 mgm of water to the applicant's cement manufacturing plant from existing Wells Nos. 1 and 2 and an existing surface water intake on the Lehigh River. The withdrawals are used for processing and non-contact cooling. The project withdrawals were previously approved by Docket No. D-1975-115 issued for the cooling water discharge on August 27, 1975. Consistent with current DRBC practice, a separate withdrawal docket is now required. The project wells and quarry are completed in the Jacksonburg Formation. The project is located in the Coplay Creek and Lehigh River Watersheds in Whitehall Township, Lehigh County, Pennsylvania within the drainage area of the section of the non-tidal Delaware River known as the Lower Delaware, which is classified as Special Protection Waters.

15. City of Trenton, D-1998-009 CP-2.An application for approval of an existing SWWD project to withdraw up to 1,350 mgm of surface water through one existing surface water intake. The application includes a request to retroactively approve the construction of an expansion and upgrade of the existing water filtration plant (WFP) from 45 mgd to 60 mgd. The allocation and expansion and upgrade of the WFP are required in order to meet projected increases in service area demand. The surface water intake withdraws water from the main stem Delaware River. The project is located in the Delaware River Watershed in the City of Trenton, Mercer County, New Jersey, within the drainage area of the section of the non-tidal Delaware River known as the Lower Delaware, which is classified as Special Protection Waters.

16. Butter Valley Golf Port, D-2010-013-1. An application for a new GWD and SWWD project to supply the applicant's golf course irrigation system with up to 5.89 mgm of water as a combined total from all sources. Sources are proposed to include one existing surface water intake (Pond Intake No. 1), one new surface water intake (Pond Intake No. 2), and one new groundwater well (Well B). The project well is located in the Brunswick Group in the West Branch Perkiomen Creek Watershed in Upper Hanover Township, Montgomery County, Pennsylvania within the Southeastern Pennsylvania Ground Water Protected Area.

17. XTO Energy, Inc., D-2010-022-1. An application for approval of a SWWD project to supply up to 0.25 mgd or 7.50 mgm of water for the applicant's natural gas exploration and production activities in Broome and Delaware Counties in the State of New York. Surface water will be withdrawn at a site on Oquaga Creek within the Oquaga Creek Watershed in the Town of Sanford, Broome County, New York. Oquaga Creek drains to the West Branch Delaware River. The withdrawal site is located within the drainage area of the section of the non-tidal Delaware River known as the Upper Delaware, which is classified as Special Protection Waters.

18. Exelon Generation Company, LLC—Schuylkill, D-2010-040 CP-1. An application for the approval of an existing combined discharge of up to 231.84 mgd of NCCW and traveling screen backwash from the Schuylkill Generating Station (SGS) via Outfall No. 001. Outfall No. 001 discharges to the tidal portion of the Schuylkill River at River Mile 92.47—5.6 (Delaware River—Schuylkill River) in Water Quality Zone 4 in the City of Philadelphia, Pennsylvania.

19. South Jersey Port Corporation, D-2010-044 CP-1. An application for approval of the Paulsboro Marine Terminal dredging and wharf construction project. The proposed project includes: The construction of a deep water marine terminal consisting of a 150-foot wide by 2,850-foot long wharf providing for: Four berths for the loading and unloading of a variety of general bulk and break bulk cargo; dredging in the Delaware River of approximately 334,000 cubic yards; the construction of a public, bi-directional access roadway between Paradise Road in the Township of West Deptford and Universal Road in the Borough of Paulsboro; and the construction of a 25-foot high, three span composite steel plate girder bridge across Mantua Creek just upstream of its confluence with the Delaware River. The proposed Paulsboro Marine Terminal site is located at the former 130-acre BP Oil Terminal site and adjacent 60-acre Essex Industrial Chemicals site in the Borough of Paulsboro, Gloucester County, New Jersey, along the Delaware River in Water Quality Zone 4 at approximately River Mile 90.

In addition to the standard business meeting items, consisting of adoption of the Minutes of the Commission's March 2, 2011 business meeting, announcements of upcoming meetings and events, a report on hydrologic conditions, reports by the Executive Director and the Commission's General Counsel, and public dialogue, the business meeting also will include public hearings on: (a) A resolution to increase the maximum daily surface water withdrawal from the Schuylkill River by Exelon's Limerick Generating Station (LGS), without increasing LGS's total monthly allocation; (b) a hearing at which the Lambertville Municipal Utilities Authority is requested to show cause why it should not be assessed a penalty in accordance with the Delaware River Basin Compact and DRBC regulations for failing to obtain DRBC review and approval prior to undertaking improvements to its wastewater treatment plant; (c) a resolution authorizing the Executive Director to enter into agreements for information technology upgrades to improve data management and retrieval; and (d) a resolution amending Resolution No. 2010-11 to increase the authorized amount of the Commission's contract for management of comments received on a proposed rulemaking concerning natural gas development. The Commissioners also will consider a Resolution for the Minutes authorizing the Executive Director to award a contract for janitorial services; a resolution to adopt the Delaware River Basin Commission current expense and capital budgets for fiscal year 2012 (on which the Commission held a public hearing on March 2, 2011); and a resolution approving election of the Commission Chair, Vice Chair and Second Vice Chair for fiscal year 2012.

Draft dockets scheduled for public hearing on May 11, 2011 can be accessed through the Notice of Commission Meeting and Public Hearing on the Commission's Web site, drbc.net, ten days prior to the meeting date. Additional public records relating to the dockets may be examined at the Commission's offices. Please contact William Muszynski at 609-883-9500, extension 221, with any docket-related questions.

Note that conference items are subject to change and items scheduled for hearing are occasionally postponed to allow more time for the Commission to consider them. Please check the Commission's Web site, drbc.net, closer to the meeting date for changes that may be made after the deadline for filing this notice.

Individuals who wish to comment for the record on a hearing item or to address the Commissioners informally during the public dialogue portion of the meeting are asked to sign up in advance by contacting Ms. Paula Schmitt of the Commission staff, at paula.schmitt@drbc.state.nj.us or by phoning Ms. Schmitt at 609-883-9500 ext. 224.

Individuals in need of an accommodation as provided for in the Americans with Disabilities Act who wish to attend the informational meeting, conference session or hearings should contact the Commission Secretary directly at 609-883-9500 ext. 203 or through the Telecommunications Relay Services (TRS) at 711, to discuss how the Commission can accommodate your needs.

Dated: April 19, 2011.
Pamela M. Bush,
Commission Secretary.

[FR Doc. 2011-9914 Filed 4-22-11; 8:45 am]

BILLING CODE 6360-01-P